FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012176.

Title: WHS/PIL Space Charter Agreement.

Parties: Wan Hai Lines (Singapore) Pte Ltd. and Pacific International Lines (Pte) Ltd.

Filing Party: Robert B. Yoshitomi, Esq., Nixon Peabody LLP, Gas Company Tower, 555 West Fifth Street 46th Floor, Los Angeles, CA 90013.

Synopsis: The agreement authorizes Wan Hai to charter slots to PIL in the trade from California to China.

Agreement No.: 200163-004.

Title: Gulf Seaports Marine Terminal Conference.

Parties: Alabama State Docks Department, Greater Baton Rouge Port Commission, Port of Beaumont, Brownsville Navigation District, Port Freeport, Galveston Wharves, Port of Houston Authority, Lake Charles Harbor and Terminal District, Manatee County Port Authority, Mississippi State Port Authority, Port of New Orleans, Orange County Navigation and Port District, Panama City Port Authority, Port of Pascagoula, Port of Pensacola, Plaquemines Port, Port of Port Arthur, St. Bernard Port, South Louisiana Port Commission, and Tampa Port Authority.

Filing Party: Allen Moeller, Chairman; Gulf Seaports Marine Terminal Conference; 3033 Pascagoula St., P.O. Box 70; Pascagoula, MS 39568-0070.

Synopsis: The amendment reflects the Port of Corpus Christi's termination of membership from the agreement.

By Order of the Federal Maritime Commission.
Dated: June 15, 2012.
Karen V. Gregory,
Secretary.

[FR Doc. 2012-15060 Filed 6-19-12; 8:45 am]

BILLING CODE 6730-01-P